DEPARTMENT OF LABOR

Mine Safety and Health Administration

Summary of Decisions Granting in Whole or in Part Petitions for Modification

AGENCY: Mine Safety and Health Administration (MSHA), Labor.

ACTION: Notice of affirmative decisions issued by the Administrators for Coal Mine Safety and Health and Metal and Nonmetal Mine Safety and Health on petitions for modification of the application of mandatory safety standards.

SUMMARY: Under section 101 of the Federal Mine Safety and Health Act of 1977, the Secretary of Labor (Secretary) may allow the modification of the application of a mandatory safety standard to a mine if the Secretary determines either that an alternate method exists at a specific mine that will guarantee no less protection for the miners affected than that provided by the standard, or that the application of the standard at a specific mine will result in a diminution of safety to the affected miners.

Final decisions on these petitions are based upon the petitioner's statements, comments and information submitted by interested persons, and a field investigation of the conditions at the mine. MSHA, as designee of the Secretary, has granted or partially granted the requests for modification listed below. In some instances, the decisions are conditioned upon compliance with stipulations stated in the decision. The term “FR Notice” appears in the list of affirmative decisions below. The term refers to the Federal Register volume and page where MSHA published a notice of the filing of the petition for modification.

FOR FURTHER INFORMATION: Petitions and copies of the final decisions are available for examination by the public in the Office of Standards, Regulations, and Variances, MSHA, Room 627, 4015 Wilson Boulevard, Arlington, Virginia 22203. Contact Barbara Barron at 703-235-1910.

Dated: November 1, 2000.
Carol J. Jones,
Director, Office of Standards, Regulations and Variances.

Affirmative Decisions on Petitions for Modification

Docket No.: M-2000-003-C.

FR Notice: 65 FR 10563.

Petitioner: Big Ridge, Inc.

Regulation Affected: 30 CFR 75.1700.

Summary of Findings: Petitioner's proposal is to plug and mine in close proximity to, or through oil and gas wells and to notify the District Manager or designee: prior to mining within 300 feet of the well; in sufficient time to have an opportunity to have a representative present; and when a specific plan is developed for mining through each well. This is considered an acceptable alternative method for the Big Ridge Mine. MSHA grants the petition for modification for mining through or near (whenever the safety barrier diameter is reduced to a distance less than the District Manager would approve pursuant to Section 75.1700) plugged oil and gas wells penetrating the Illinois No. 5 seam and other mineable coal seams at the Big Ridge Mine with conditions.

Docket No.: M-2000-004-C.

FR Notice: 65 FR 10563.

Petitioner: Aracoma Coal Company.

Regulation Affected: 30 CFR 75.1002.

Summary of Findings: Petitioner's proposal is to use a 2,400 volt continuous mining system inby the last open crosscut and within 150 feet from pillar workings using the specific terms and conditions listed in the petition for modification. This is considered an acceptable alternative method for the Aracoma Alma Mine. MSHA grants the petition for modification for the Aracoma Alma Mine with conditions.

Docket No.: M-2000-006-C.

FR Notice: 65 FR 10563.

Petitioner: Marrowbone Development Company (Eastern Mingo Coal Company).

Regulation Affected: 30 CFR 75.1002.

Summary of Findings: Petitioner's proposal is to use 2,400-volt AC continuous mining equipment. This is considered an acceptable alternative method for the Drautz Mine. MSHA grants the petition for modification for the Drautz Mine with conditions.

Docket No.: M-2000-011-C.

FR Notice: 65 FR 10564.

Petitioner: Alex Energy, Inc.

Regulation Affected: 30 CFR 75.350.

Summary of Findings: Petitioner's proposal is to use air coursed through the belt haulage entry to ventilate active working places by installing a carbon monoxide monitoring system as an early warning fire detection system in all belt entries used to carry intake air to a working place. This is considered an acceptable alternative method for the Jerry Fork Eagle Mine. MSHA grants the petition for modification for the Jerry Fork Eagle Mine with conditions.

Docket No.: M-2000-016-C.

FR Notice: 65 FR 16966.

Petitioner: Elk Run Coal Company.

Regulation Affected: 30 CFR 75.350.

Summary of Findings: Petitioner's proposal is to use air coursed through the conveyor belt entry at a velocity of at least 50 feet per minute to ventilate active working places installing a low-level carbon monoxide system as an early warning fire detection system in all belt entries used to course intake air to a working place. This is considered an acceptable alternative method for the White Knight Mine. MSHA grants the petition for modification for the White Knight Mine with conditions.

Docket No.: M-2000-017-C.

FR Notice: 65 FR 16966.

Petitioner: FKZ Coal, Inc.

Regulation Affected: 30 CFR 75.1202-1(a).

Summary of Findings: Petitioner's proposal is to conduct mine surveys and revise and supplement mine maps annually instead of every 6 months as required, and to update maps daily by hand notations, and conduct subsequent surveys prior to commencing retreat mining and whenever a drilling program under 30 CFR 75.388 or plan for mining into inaccessible areas under 30 CFR 75.389 is required. This is considered an acceptable alternative method for the No. 1 Slope Mine. MSHA grants the petition for modification for the No. 1 Slope Mine with conditions.

Docket No.: M-2000-023-C.

FR Notice: 65 FR 19928.

Petitioner: Crystal Fuels Company.

Regulation Affected: 30 CFR 75.1103-4.

Summary of Findings: Petitioner's proposal is to install a low-level carbon monoxide detection system as an early warning fire detection system in all belt entries used to ventilate active working places instead of using monitoring systems that identify each belt flight. This is considered an acceptable alternative method for the No. 1 Mine. MSHA grants the petition for modification for the No. 1 Mine with conditions.

Docket No.: M-2000-027-C.

FR Notice: 65 FR 31611.

Petitioner: Hopkins County Coal, LLC.

Regulation Affected: 30 CFR 75.503.

Summary of Findings: Petitioner's proposal is to use a spring-loaded device with specific fastening characteristics instead of a padlock to secure plugs and electrical type connectors to batteries and to permissible mobile powered equipment, to prevent the battery plugs from accidentally separating from the receptacle during normal operation of battery equipment. This is considered an acceptable alternative method for the Island Mine. MSHA grants the petition for modification for the use of permanently installed spring-loaded locking devices in lieu of padlocks on battery plugs at the Island Mine with conditions.

Docket No.: M-2000-032-C.

FR Notice: 65 FR 31611.

Petitioner: Sidney Coal Company, Inc.

Regulation Affected: 30 CFR 75.350.

Summary of Findings: Petitioner's proposal is to use air coursed through belt haulage entries to ventilate active working places by installing a low-level carbon monoxide detection system as an early warning fire detection system in all belt entries used to course intake air to a working place. This is considered an acceptable alternative method for the Rockhouse Energy Mining Company, Mine No. 1. MSHA grants the petition for modification for the Rockhouse Energy Mining Company, Mine No. 1 with conditions.

Docket No.: M-2000-035-C.

FR Notice: 65 FR 31612.

Petitioner: West Ridge Resources, Inc.

Regulation Affected: 30 CFR 75.352.

Summary of Findings: Petitioner's proposal is to use the belt entry as a return air course during two-entry longwall development, and as an intake during longwall extraction to ensure adequate ventilation to dilute and render harmless any methane or other noxious gases that may accumulate. This is considered an acceptable alternative method for the West Ridge Mine. MSHA grants the petition for modification for the West Ridge Mine with conditions.

Docket No.: M-2000-042-C.

FR Notice: 65 FR 31610.

Petitioner: Marfork Coal Company, Inc.

Regulation Affected: 30 CFR 75.350.

Summary of Findings: Petitioner's proposal is to use an automatic fire detection system based on carbon monoxide monitoring of the underground belt conveyor entries and to install a low-level carbon monoxide monitoring system as an early warning fire detection system in all belt entries used to course intake air to a working place. This is considered an acceptable alternative method for the Brushy Eagle Mine. MSHA grants the petition for modification for the Brushy Eagle Mine with conditions.

Docket No.: M-2000-044-C.

FR Notice: 65 FR 31610.

Petitioner: Appalachian Eagle, Inc.

Regulation Affected: 30 CFR 75.350.

Summary of Findings: Petitioner's proposal is to use a carbon monoxide monitoring system to monitor belt air used in the face. The petitioner proposes to use a carbon monoxide monitoring system as an early warning fire detection system in all belt entries used to course intake air to a working place. This is considered an acceptable alternative method for the Mine No. 1. MSHA grants the petition for modification for the Mine No. 1 with conditions.

Docket No.: M-2000-056-C.

FR Notice: 65 FR 40142.

Petitioner: Dominion Coal Corporation.

Regulation Affected: 30 CFR 77.214(a).

Summary of Findings: Petitioner's proposal is to cover abandoned mine openings with coarse refuse material for the Dominion Mine No. 22, MSHA Site ID #1211-VA5-0335-01. The petitioner proposes to construct a refuse bench fill in abandoned mine openings using the specific plans and procedures listed in the petition for modification. This is considered an acceptable alternative method for the Dominion Mine No. 22. MSHA grants the petition for modification for the Dominion Mine No. 22 with conditions.

Docket No.: M-1999-007-C.

FR Notice: 64 FR 16760.

Petitioner: Energy Fuels Coal, Inc.

Regulation Affected: 30 CFR 75.701.

Summary of Findings: Petitioner's proposal is to use a 135 kw/169 kva, 480-volt diesel powered generator set to move equipment in and out of the mine and operate a roof bolter for roof rehabilitation in remote areas of the mine. This is considered an acceptable alternative method for the South Field Mine. MSHA grants the petition for modification for the 480-volt, three-phase, 135kw Diesel Powered Generator (DPG) set supplying power to a 169 KVA three-phase transformer and three-phase 480-volt and 995-volt power circuits with conditions.

Docket No.: M-1999-012-C.

FR Notice: 64 FR 16760.

Petitioner: Canyon Fuel Company, LLC.

Regulation Affected: 30 CFR 75.1002.

Summary of Findings: Petitioner's proposal is to use high-voltage (2,400 volt) cables on continuous miner sections. This is considered an acceptable alternative method for the SUFCO Mine. MSHA grants the petition for modification for the SUFCO Mine with conditions.

Docket No.: M-1999-021-C.

FR Notice: 64 FR 23874.

Petitioner: Jim Walter Resources, Inc.

Regulation Affected: 30 CFR 75.364(b)(2).

Summary of Findings: Petitioner's proposal is to establish evaluation points inby and outby the return air course and have a certified person examine the evaluation points for methane and oxygen concentrations and the volume of air and record the results in a book maintained on the surface of the mine. This is considered an acceptable alternative method for the No. 4 Mine. MSHA grants the petition for modification for the examination of approximately 2,000 feet of unsafe-to-travel air course between Shafts 4-1 and 4-2 (Southern Area) and the Shaft 4-5 (Northern Area) which ventilates the A Panel off of 3 East mine seals at the No. 4 Mine with conditions.

Docket No.: M-1999-026-C.

FR Notice: 64 FR 25518.

Petitioner: West Ridge Resources, Inc.

Regulation Affected: 30 CFR 75.350.

Summary of Findings: Petitioner's proposal is to use two-entry longwall development, use the belt entry as a return air course during longwall development and as an intake during longwall extraction, to ensure an adequate quantity of ventilation to dilute and render harmless methane or noxious gases that may accumulate. This is considered an acceptable alternative method for the West Ridge Mine. MSHA grants the petition for modification for the West Ridge Mine with conditions.

Docket No.: M-1999-028-C.

FR Notice: 64 FR 25518.

Petitioner: Peabody Coal Company.

Regulation Affected: 30 CFR 75.364(b)(4).

Summary of Findings: Petitioner's proposal is to establish evaluation points to monitor its bleeder system due to hazardous conditions that hinder continued travel to conduct examinations, and conduct daily examinations at various evaluation points, have a certified person check for methane and oxygen and the volume of air and record the results in a book kept on the surface of the mine. This is considered an acceptable alternative method for the Camp No. 11 Mine. MSHA grants the petition for modification for the continuous monitoring using intrinsically safe sensors installed as part of the mine's AMS and daily evaluation of air, entering the worked out longwall panels and approximately 5600 feet of bleeder/return air course which ventilates the inaccessible 9th North mine seals at the Camp No. 11 Mine with conditions.

Docket No.: M-1999-039-C.

FR Notice: 64 FR 32553.

Petitioner: Canyon Fuel Company, LLC.

Regulation Affected: 30 CFR 75.701.

Summary of Findings: Petitioner's proposal is use a 420 KW/525 KVA, 480-volt diesel-powered generator system to move equipment in and out of the mine and perform minor mining activities in the mine, and to conduct proper testing procedures training for all operators prior to using the generator system. This is considered an acceptable alternative method for the SUFCO Mine. MSHA grants the petition for modification for the 480-volt, three-phase, 420KW/525KVA diesel-powered generator (DPG) set supplying power to a three-phase transformer and three-phase 480-volt and 995-volt power circuits at the SUFCO Mine with conditions.

Docket No.: M-1999-040-C.

FR Notice: 64 FR 32553.

Petitioner: Canyon Fuel Company, LLC.

Regulation Affected: 30 CFR 75.901.

Summary of Findings: Petitioner's proposal is use a 420 KW/525 KVA, 480-volt diesel-powered generator system to move equipment in and out of the mine and perform minor mining activities in the mine, and to conduct proper testing procedures training for all operators prior to using the generator system. This is considered an acceptable alternative method for the SUFCO Mine. MSHA grants the petition for modification for the 480-volt, three-phase, 420KW/525KVA diesel-powered generator (DPG) set supplying power to a three-phase transformer and three-phase 480-volt and 995-volt power circuits at the SUFCO Mine with conditions.

Docket No.: M-1999-053-C.

FR Notice: 64 FR 41139.

Petitioner: West Ridge Resources, Inc.

Regulation Affected: 30 CFR 75.1002-1(a).

Summary of Findings: Petitioner's proposal is to use a nominal voltage of longwall power circuits not to exceed 2,400 volts to supply power to the permissible longwall mining equipment. This is considered an acceptable alternative method for the West Ridge Mine. MSHA grants the petition for modification for the West Ridge Mine with conditions.

Docket No.: M-1999-070-C.

FR Notice: 64 FR 49247.

Petitioner: RAG Emerald Resources Corporation (Originally Cyprus Emerald Resources Corporation).

Regulation Affected: 30 CFR 75.503.

Summary of Findings: Petitioner's proposal is to use trailing cables greater than 500 feet in length for mining equipment taken in by the last open crosscut with the cable length not to exceed 1,000 feet. This is considered an acceptable alternative method for the Emerald No. 1 Mine. MSHA grants the petition for modification for the Emerald No. 1 Mine with conditions.

Docket No.: M-1999-076-C.

FR Notice: 64 FR 55493.

Petitioner: Consolidation Coal Company.

Regulation Affected: 30 CFR 75.503.

Summary of Findings: Petitioner's proposal is to use trailing cables greater than 500 feet in length on face equipment during longwall panel development with the cable length not to exceed 1,000 feet. This is considered an acceptable alternative method for the Shoemaker Mine. MSHA grants the petition for modification for the Shoemaker Mine with conditions.

Docket No.: M-1999-078-C.

FR Notice: 64 FR 55493.

Petitioner: Consolidation Coal Company.

Regulation Affected: 30 CFR 75.503.

Summary of Findings: Petitioner's proposal is to use trailing cables greater than 500 feet in length on face equipment during longwall panel development. This is considered an acceptable alternative method for the Dilworth Mine. MSHA grants the petition for modification for the Dilworth Mine with conditions.

Docket No.: M-1999-090-C.

FR Notice: 64 FR 57662.

Petitioner: Canterbury Coal Company.

Regulation Affected: 30 CFR 75.350.

Summary of Findings: Petitioner's proposal is to ventilate working sections. The petitioner proposes to install a carbon monoxide monitoring system as an early warning fire detection system in all belt entries where air coursed through the belt entry is used to ventilate active working places. This is considered an acceptable alternative method for the DiAnne Mine. MSHA grants the petition for modification for the DiAnne Mine with conditions.

Docket No.: M-1999-092-C.

FR Notice: 64 FR 57662.

Petitioner: Marfork Coal Company, Inc.

Regulation Affected: 30 CFR 75.1002.

Summary of Findings: Petitioner's proposal is to use 4,160 volt longwall face equipment using specific terms and conditions listed in the petition for modification. This is considered an acceptable alternative method for the Brushy Eagle Mine. MSHA grants the petition for modification for the Brushy Eagle Mine with conditions.

Docket No.: M-2000-096-C.

FR Notice: 64 FR 57663.

Petitioner: Canyon Fuel Company, LLC.

Regulation Affected: 30 CFR 75.1002.

Summary of Findings: Petitioner's proposal is to use a nominal voltage of longwall power circuits not to exceed 2,400 volts to supply power to permissible longwall equipment. This is considered an acceptable alternative method for the Dugout Canyon Mine. MSHA grants the petition for modification for the Dugout Canyon Mine with conditions.

Docket No.: M-1999-101-C.

FR Notice: 64 FR 57663.

Petitioner: RAG Emerald Resources Corporation.

Regulation Affected: 30 CFR 75.1002.

Summary of Findings: Petitioner's proposal is to use 4,160 volt high-voltage longwall equipment. This is considered an acceptable alternative method for the Emerald Mine No. 1. MSHA grants the petition for modification for the Emerald Mine No. 1 with conditions.

Docket No.: M-1999-108-C.

FR Notice: 64 FR 70054.

Petitioner: Energy West Mining Company.

Regulation Affected: 30 CFR 75.1909(b)(6).

Summary of Findings: Petitioner's proposal is to use an alternative method for service brakes on diesel powered graders. The petitioner proposes to install a speedometer on diesel graders in order to limit the speed to 25 miles per hour when operating graders in an underground coal mine or on the surface of an underground coal mine, and train all miners who operate the graders in the proper procedures for lowering the blade in order to restrict the speed and stop the grader, in proper gear selection for grading, and in the proper speed for grading. This is considered an acceptable alternative method for the Deer Creek Mine. MSHA grants the petition for modification for the Deer Creek Mine with conditions.

Docket No.: M-1999-126-C.

FR Notice: 64 FR 70732.

Petitioner: Mingo Logan Coal Company.

Regulation Affected: 30 CFR 75.1002.

Summary of Findings: Petitioner's proposal is to use a high-voltage cable within 150 feet of pillar workings to power a 2,400 VAC longwall mining machine. This is considered an acceptable alternative method for the Mountaineer Alma-A Mine. MSHA grants the petition for modification for the Mountaineer Alma-A Mine with conditions.

Docket No.: M-1999-136-C.

FR Notice: 65 FR 1914.

Petitioner: Twentymile Coal Company.

Regulation Affected: 30 CFR 75.1909(b)(6).

Summary of Findings: Petitioner's proposal is to use an alternative method of compliance for service brakes on diesel-powered graders. The petitioner proposes to equip the diesel-powered graders with devices to limit the speed for operating the graders to 10 miles per hour, and train each miner who operates the grader on the proper techniques for lowering the blade in order to restrict the speed and stop the grader. This is considered an acceptable alternative method for the Foidel Creek Mine. MSHA grants the petition for modification for the Foidel Creek Mine with conditions.

Docket No.: M-1999-139-C.

FR Notice: 65 FR 1914.

Petitioner: RAG Shoshone Coal Corporation.

Regulation Affected: 30 CFR 75.1909(b)(6).

Summary of Findings: Petitioner's proposal is to use an alternative method of compliance for service brakes on diesel-powered graders. The petitioner proposes to equip the diesel graders with devices to limit the speed for operating the graders to 10 miles per hour, and train each miner who operates the grader on the proper techniques for lowering the blade in order to restrict the speed and stop the grader. This is considered an acceptable alternative method for the Shoshone No. 1 Mine. MSHA grants the petition for modification for the Shoshone No. 1 Mine with conditions.

Docket No.: M-1999-143-C.

FR Notice: 65 FR 5700.

Petitioner: Consol of Kentucky, Inc.

Regulation Affected: 30 CFR 75.701.

Summary of Findings: Petitioner's proposal is to use a diesel-generator source of low and medium voltage, three-phase electrical power during transportation of certain mobile equipment underground. This is considered an acceptable alternative method for the Rhoades Branch H-4 Mine. MSHA grants the petition for modification for the Rhoades Branch H-4 Mine with conditions.

Docket No.: M-1999-144-C.

FR Notice: 65 FR 5700.

Petitioner: Consol of Kentucky, Inc.

Regulation Affected: 30 CFR 75.901.

Summary of Findings: Petitioner's proposal is to use a diesel-generator source of low and medium voltage, three-phase electrical power during transportation of certain mobile equipment underground. This is considered an acceptable alternative method for the Rhoades Branch H-4 Mine. MSHA grants the petition for modification for the Rhoades Branch H-4 Mine with conditions.

Docket No.: M-1999-145-C.

FR Notice: 65 FR 5700.

Petitioner: Consol of Kentucky, Inc.

Regulation Affected: 30 CFR 75.1101-8.

Summary of Findings: Petitioner's proposal is to use a single line of automatic sprinklers for its fire protection system on main and secondary belt conveyors. This is considered an acceptable alternative method for the Rhoades Branch H-4 Mine. MSHA grants the petition for modification for the Rhoades Branch H-4 Mine with conditions.

Docket No.: M-1999-148-C.

FR Notice: 65 FR 5701.

Petitioner: Consolidation Coal Company.

Regulation Affected: 30 CFR 75.364(b)(2).

Summary of Findings: Petitioner's proposal is to establish evaluation check points in certain area of the return air course due to deteriorating roof conditions and have a certified person test for methane and the quantity of air at the check points on a weekly basis. This is considered an acceptable alternative method for the Shoemaker Mine. MSHA grants the petition for modification for the Shoemaker Mine with conditions.

Docket No.: M-1998-056-C.

Petitioner: 63 FR 44291.

Regulation Affected: 30 CFR 75.901(a).

Summary of Findings: Petitioner's proposal is to use a portable diesel powered generator to move electrically powered mining- equipment from one section of the mine to another and incorporate a ground fault system for the power circuits that would deenergize mining equipment if a phase to frame fault occurs. This is considered an acceptable alternative method for the Foidel Creek Mine. MSHA grants the petition for modification for 480-volt, three-phase, 320KW/400KVA Diesel Powered Generator (DPG) set supplying power to a three-phase transformer and three-phase 480-volt, and 995-volt power circuits at the Foidel Creek Mine with conditions.

Docket No.: M-1998-100-C.

FR Notice: 64 FR 2520.

Petitioner: Cyprus Plateau Mining Corporation.

Regulation Affected: 30 CFR 75.804(a).

Summary of Findings: Petitioner's proposal is to: use specially designed high-voltage cables on longwall equipment that would comply with the existing standard, or use type CABLE/BICC Anaconda brand 5KV, 3/C type SHD+GC; Amercable Tiger Brand, 3/C, 5KV, type SHD-CGC; Pirelli 5KV, 3/C, type SHD-CENTER-GC; or similar 5,000 volt cable with center ground check conductor, manufactured to the ICEA Standard S-75-381 for type SHD, three-conductor cables; use MSHA accepted as flame-resistant cable; use a ground check conductor not smaller than a No. 16 AWG stranded conductor; use cable construction of symmetrical 3/C, 3/G, and 1/GC; train all qualified electrical personnel who perform maintenance on the longwall on the installation, splicing, repair, and permissibility requirements of high-voltage cables; and submit proposed revisions for part 48 training to the District Manager within 60 days after the proposed decision and order becomes final. This is considered an acceptable alternative method for the Willow Creek Mine. MSHA grants the petition for modification for the use of high-voltage longwall cables at the Willow Creek Mine with conditions.

Docket No.: M-2000-005-M.

FR Notice: 65 FR 40142.

Petitioner: Frontier-Kemper Constructors, Inc.

Regulation Affected: 30 CFR 57.9360.

Summary of Findings: Petitioner's proposal is to install and use safety platforms instead of shelter-holes mounted along the rib at regular intervals throughout the ASARCO Mineral Creek Water Diversion Tunnel using the specific construction procedures outlined in the petition for modification. This is considered an acceptable alternative method for the ASARCO Ray Complex Mine. MSHA grants the petition for modification for the ASARCO Ray Complex Mine with conditions.

Docket No.: M-1999-004-M.

FR Notice: 64 FR 32554.

Petitioner: Dally Slate Company and American Bangor Slate & Stone.

Regulation Affected: 30 CFR 57.19007.

Summary of Findings: Petitioner's proposal is to use a stand-by engineer, instead of a mechanical device, to prevent overtravel or overspeed in the event the hoist operating engineer has a sudden health problem that impairs his/her ability to operate the hoist. This is considered an acceptable alternative method for the Dally 2-Pit Diamond Mill Doney Mine and the American Bangor Slate & Stone Mine. MSHA grants the petition for modification for the Dally 2-Pit Diamond Mill Doney Mine and the American Bangor Slate & Stone Mine with conditions.

Docket No.: M-1999-005-M.

FR Notice: 64 FR 32554.

Petitioner: Williams & Sons Slate & Tile, Inc.

Regulation Affected: 30 CFR 57.19007.

Summary of Findings: Petitioner's proposal is to use a stand-by engineer, instead of a mechanical device, to prevent overtravel or overspeed in the event the hoist operating engineer has a sudden health problem that impairs his/her ability to operate the hoist. This is considered an acceptable alternative method for the Sreebs Slate & Stone Co., Inc. Mine. MSHA grants the petition for modification for the Sreebs Slate & Stone Co., Inc. Mine with conditions.

Docket No.: 1999-015-M.

FR Notice: 64 FR 55494.

Petitioner: Lyons Salt Company.

Regulation Affected: 30 CFR 49.6(a)(1).

Summary of Findings: Petitioner's proposal is to maintain six (6) approved apparatuses at its mine-rescue station rather than twelve as required by the standard. The four members of the Kansas Mine Rescue Association (Association) (of which Lyons Salt is one) have an agreement that Association members will respond to mine emergencies at other member mines, which means there are 24 mine-rescue apparatuses available for mine emergency. The association member mines each have their own rescue stations, which are equipped with six complete mine-rescue apparatuses. These apparatuses could be used immediately or transported to another mine within 30 minutes to 2 hours ground travel. This is considered an acceptable alternative method for the Lyons Salt Company Mine. MSHA grants the petition for modification for the Lyons Salt Company Mine with conditions. This is an underground salt mine using conventional room-and-pillar mining methods. The petitioner amended this petition on February 21, 2000, to change the standard for which it was seeking modification from 30 CFR 49.6(a)(4) to 30 CFR 49.6(a)(1).

Docket No.: M-1999-016-M.

FR Notice: 64 FR 55494.

Petitioner: Hutchinson Salt Company.

Regulation Affected: 30 CFR 49.6(a)(1).

Summary of Findings: Petitioner's proposal is to maintain six (6) approved apparatuses at its mine-rescue station rather than twelve as required by the standard. The four members of the Kansas Mine Rescue Association (Association) (of which Hutchinson Salt is one) have an agreement that Association members will respond to mine emergencies at other member mines, which means there are 24 mine-rescue apparatuses available for mine emergency. The association member mines each have their own rescue stations, which are equipped with six complete mine-rescue apparatuses. These apparatuses could be used immediately or transported to another mine within 30 minutes to 2 hours ground travel. This is considered an acceptable alternative method for the Hutchinson Salt Company Mine. MSHA grants the petition for modification for the Hutchinson Salt Company Mine with conditions. This is an underground salt mine using conventional room-and-pillar mining methods. The petitioner amended this petition on February 22, 2000, to change the standard for which it was seeking modification from 30 CFR 49.6(a)(4) to 30 CFR 49.6(a)(1).

Docket No.: M-1999-17-M.

FR Notice: 64 FR 55494.

Petitioner: G-P Gypsum Corporation.

Regulation Affected: 30 CFR 49.6(a)(1).

Summary of Findings: Petitioner's proposal is to maintain six (6) approved apparatuses at its mine-rescue station rather than twelve as required by the standard. The four members of the Kansas Mine Rescue Association (Association) (of which G-P Gypsum corporation is one) have an agreement that Association members will respond to mine emergencies at other member mines, which means there are 24 mine-rescue apparatuses available for mine emergency. The association member mines each have their own rescue stations, which are equipped with six complete mine-rescue apparatuses. These apparatuses could be used immediately or transported to another mine within 30 minutes to 2 hours ground travel. This is considered an acceptable alternative method for the Blue Rapids Mine & Mill. MSHA grants the petition for modification for the Blue Rapids Mine & Mill with conditions. This is an underground salt mine using conventional room-and-pillar mining methods. The petitioner amended this petition on February 10, 2000, to change the standard for which it was seeking modification from 30 CFR 49.6(a)(4) to 30 CFR 49.6(a)(1).

Docket No.: M-1999-019-M.

FR Notice: 64 FR 55495.

Petitioner: Independent Salt Company.

Regulation Affected: 30 CFR 49.6(a)(1).

Summary of Findings: Petitioner's proposal is to maintain six (6) approved apparatuses at its mine-rescue station rather than twelve as required by the standard. The four members of the Kansas Mine Rescue Association (Association) (of which Independent Salt Company is one) have an agreement that Association members will respond to mine emergencies at other member mines, which means there are 24 mine-rescue apparatuses available for mine emergency. The association member mines each have their own rescue stations, which are equipped with six complete mine-rescue apparatuses. These apparatuses could be used immediately or transported to another mine within 30 minutes to 2 hours ground travel. This is considered an acceptable alternative method for the Independent Salt Company Mine. MSHA grants the petition for modification for the Independent Salt Company Mine with conditions. This is an underground salt mine using conventional room-and-pillar mining methods. The petitioner amended this petition on February 22, 2000, to change the standard for which it was seeking modification from 30 CFR 49.6(a)(4) to 30 CFR 49.6(a)(1).

[FR Doc. 00-28816 Filed 11-8-00; 8:45 am]

BILLING CODE 4510-43-U